DEPARTMENT OF EDUCATION

34 CFR Chapter III

[Docket ID ED-2024-OSERS-0138]

Rehabilitation Long-Term Training Program

AGENCY: Office of Special Education and Rehabilitative Services (OSERS), Department of Education.

ACTION: Proposed priorities and requirements.

SUMMARY: The Department of Education (Department) proposes priorities and requirements under the Rehabilitation Long-Term Training (RLTT) program with a focus on the Comprehensive System of Personnel Development (CSPD) and six rehabilitation topic areas. The Department may use these priorities and requirements for competitions in fiscal year (FY) 2025 and later years. This action is intended to address the national needs for the RLTT program, particularly the retention of qualified vocational rehabilitation (VR) personnel in the field of State VR services and the training of RSA scholars who aspire to become VR professionals and will fill critical VR positions where there are shortages.

DATES: We must receive your comments on or before February 20, 2025.

ADDRESSES: Comments must be submitted via the Federal eRulemaking Portal at www.regulations.gov. However, if you require an accommodation or cannot otherwise submit your comments via www.regulations.gov, please contact the program contact person listed under FOR FURTHER INFORMATION CONTACT. The Department will not accept comments submitted by fax or by email, or after the comment period closes. To ensure the Department does not receive duplicate copies, please submit your comments only once. In addition, please include the Docket ID at the top of your comments.

Federal eRulemaking Portal: Go to www.regulations.gov to submit your comments electronically. Information on using Regulations.gov, including instructions for accessing agency documents, submitting comments, and viewing the docket, is available on the site under “FAQ.”

Note: The Department's policy is generally to make comments received from members of the public available for public viewing in their entirety on the Federal eRulemaking Portal at www.regulations.gov. Therefore, commenters should be careful to only include information in their comments that they wish to make publicly available.

FOR FURTHER INFORMATION CONTACT: Diandrea Bailey, U.S. Department of Education, 400 Maryland Avenue SW, room 4A10, Washington, DC 20202. Telephone: (202) 987-0126. Email: 84.129@ed.gov.

If you are deaf, hard of hearing, or have a speech disability and wish to access telecommunications relay services, please dial 7-1-1.

SUPPLEMENTARY INFORMATION:

Invitation to Comment: We invite you to submit comments regarding the proposed priorities and requirements. To ensure that your comments have maximum effect in developing the final priorities and requirements, we urge you to clearly identify the specific section of the proposed priorities and requirements that each comment addresses.

We are particularly interested in comments about whether the proposed priorities or requirements would be challenging for new applicants to meet and, if so, how the proposed priorities or requirements could be revised to address potential challenges.

We invite you to assist us in complying with the specific requirements of Executive Orders 12866, 13563, and 14094 and their overall requirement of reducing regulatory burden that might result from these proposed priorities and requirements. Please let us know of any further ways we could reduce potential costs or increase potential benefits while preserving the effective and efficient administration of the program.

During and after the comment period, you may inspect public comments about the proposed priorities and requirements, by accessing Regulations.gov. To inspect comments in person, please contact the person listed under FOR FURTHER INFORMATION CONTACT.

Assistance to Individuals with Disabilities in Reviewing the Rulemaking Record: On request, we will provide an appropriate accommodation or auxiliary aid to an individual with a disability who needs assistance to review the comments or other documents in the public rulemaking record for the proposed priorities and requirements. If you want to schedule an appointment for this type of aid, please contact the person listed under FOR FURTHER INFORMATION CONTACT.

Purpose of Program: The purpose of the RLTT program is to provide financial assistance for academic training in areas of personnel shortages identified by the Secretary and published in a notice in the Federal Register. RLTT funds are awarded to colleges and universities. Grantees must award at least 65 percent of project funds as scholarships (i.e., awards of financial assistance, including disbursements or credits for student stipends, tuition and fees, books and supplies, and student travel in conjunction with training assignments) to students (herein referred to as RSA scholars) enrolled in the RLTT program.

Assistance Listing Number: 84.129.

Program Authority: 29 U.S.C. 772.

Applicable Regulations: 34 CFR parts 385 and 386.

Proposed Priorities: This document contains two proposed priorities. The Department may use one or both priorities for the FY 2025 RLTT program competitions and for any subsequent competitions.

Proposed Priority 1: RLTT Program for State VR Agencies' CSPD: Master's Degree or Certificate, Assistance Listing Number (ALN) 84.129W.

Background: The Department published a Notice of Final Priority in the Federal Register on July 23, 2014, establishing a priority for nine rehabilitation specialty areas of national need, including CSPD. Subsequently, RSA awarded eight CSPD grants to institutions of higher education (IHEs) in FY 2015 with a focus on providing academic training leading to a master's degree or academic certificate that supported State agency VR counselors. Grants were funded for a five-year cycle and expired in FY 2020. RSA has not awarded CSPD grants since FY 2015 as the national need for CSPDs was not the primary priority. Additionally, the RSA discretionary Rehabilitation Training-State Vocational Rehabilitation Unit In-Service Training program that supported special projects to train state vocational rehabilitation unit personnel was no longer available in 2015 (as a result of the amendments to the Rehabilitation Act made by the Workforce Innovation and Opportunity Act). As such, there remains a need to provide continuing education to rehabilitation professionals and paraprofessionals within the designated State unit, particularly with respect to rehabilitation technology so that they can establish and maintain education and experience requirements, to ensure that the personnel have a 21st century understanding of the evolving labor force and the needs of individuals with disabilities as mandated by the Rehabilitation Act. This continuing education is also important for rehabilitation professionals and paraprofessionals to meet the current challenges facing State VR agencies and related agencies in assisting individuals with disabilities to achieve high-quality competitive integrated employment outcomes.

Under Proposed Priority 1, applicants must propose a CSPD project that provides training to currently employed State VR agency personnel, including VR counselors with disabilities and VR counselors from racially and ethnically diverse backgrounds.

The academic training for all participants must meet (A) the designated State unit (DSU) personnel standards required under section 101(a)(7) of the Rehabilitation Act of 1973, as amended, and 34 CFR 361.18 and (B) the qualifications for the master's degree or academic certificate specified in the State's CSPD plans or of the States with which the State VR counselors and other personnel are working.

CSPD proposed projects must develop and use innovative approaches to train VR professionals, including using cutting-edge technology or innovative applications of advanced technology (e.g., hybrid learning and competency-based programs) to maximize participation in, and improve the effectiveness of, the academic training.

Proposed Priority 2: RLTT Program for Rehabilitation Topic Areas, ALNs 84.129B, 84.129E, 84.129H, 84.129L, 84.129P, and 84.129Q.

Background: The goal of this priority is to increase the number of RSA scholars, and upgrade the skills of qualified VR personnel, especially rehabilitation counselors, who are trained in providing VR and related services to assist individuals with disabilities to achieve competitive integrated employment through academic training in six rehabilitation topic areas. Upon successful completion of their program of study, RSA scholars will be prepared to effectively meet the needs and demands of consumers with disabilities, especially individuals with significant disabilities, and employers.

Proposed Priority:

Under the Proposed Priority 2, applicants must propose a project that provides academic training to RSA scholars where the training leads to a degree (undergraduate or master's level) or academic certificate in one of six rehabilitation topic areas that follow:

1. Vocational Rehabilitation (VR) Counseling: Master's Degree (ALN 84.129B). Projects in this topic area must be designed to support RSA scholars interested in pursuing a master's degree in VR counseling. Projects must increase the skills of RSA scholars so that they are, upon successful completion of their program of study, prepared to, effectively and with an advanced level of expertise, help individuals with disabilities (consumers) meet their career and personal goals and help employers in their hiring efforts. Projects should also increase RSA scholars understanding of and ability to support consumers access to pre-employment transition services.

2. Rehabilitation Technology (ALN 84.129E). Projects in this topic area must provide scholarships to RSA scholars to pursue a degree or certificate in the application of advanced technology in rehabilitation services, and for use in careers in rehabilitation technology. Rehabilitation technology training includes training on the use, applications, and benefits of technology (including assistive technology and artificial intelligence tools) to individuals with disabilities to achieve and/or maintain competitive integrated employment and independence.

The rehabilitation technology training program must be designed to ensure that RSA scholars acquire a 21st-century understanding of the evolving technology labor force, the needs of individuals with disabilities that might be addressed via technology, and the ways technology can unlock individuals' strengths.

3. Rehabilitation of Individuals With Mental Health Disorders or Illnesses (ALN 84.129H). Projects in this topic area must be designed to support RSA scholars interested in pursuing a degree or certificate for careers that provide specialized services to individuals who have mental health disorders or illnesses and are participants in the State VR programs. Additionally, projects must be designed to prepare RSA scholars to address a range of issues in VR services for individuals with mental health disorders or illnesses to assist them to achieve and maintain competitive integrated employment. Such mental health disorders and illnesses might include mood disorders (e.g., depressive disorders and bipolar disorders), suicidality, schizophrenia, eating disorders, post-traumatic stress disorder, and other mild to severe mental health disorders. This can include mental health issues related to long-term effects of post-acute infection syndromes (COVID-19 and myalgic encephalomyelitis/chronic fatigue syndrome (ME/CFS) for which mental health care may be part of treating a potentially more systematic illness.

4. Undergraduate Education in the Rehabilitation Services (ALN 84.129L). Projects in this topic area must train undergraduate RSA scholars interested in pursuing careers as rehabilitation generalists, VR paraprofessionals, or other entry-level positions in the public VR services. Projects must also be designed to provide training and clinical learning experiences to equip RSA scholars with foundational knowledge of disability conditions, VR processes, interviewing techniques, and other skills required for working with consumers in the public VR services, including the skills to coordinate the diagnosis and evaluation of a person's disabling condition, create individual plans, arrange various VR services, assist VR counselors in working with persons with disabilities in selecting a vocational goal, provide personal and social adjustment services, conduct job placement activities, and provide follow-up services to individuals after other services are completed. Pre-employment transition services should be included as part of programmatic content.

5. Rehabilitation of Individuals Who Are Blind or Have Low Vision (ALN 84.129P). Projects in this topic area must train RSA scholars interested in pursuing a degree or certificate for careers in providing specialized services to persons who are blind or have low vision. Projects must be designed to provide training and hands-on experiences in VR services for persons who are blind or have low vision to assist them to achieve and/or maintain competitive integrated employment, including training in orientation and mobility, methods of independent and safe travel, and application of advanced technology.

6. Rehabilitation of Individuals Who Are Deaf or Hard of Hearing (ALN 84.129Q). Projects in this topic area must train RSA scholars interested in pursuing a degree or certificate for careers in providing specialized rehabilitation to persons who are deaf or hard of hearing. The training must include opportunities for RSA scholars to acquire the necessary skills to communicate effectively with individuals who are deaf or hard of hearing, and to assess and address the communication needs of individuals who are deaf or hard of hearing. Additionally, projects must have plans to support RSA scholars in developing competency in sign language/ASL and other communication methods as well as familiarity with the use of various assistive listening devices and application of other advanced assistive technology.

Projects must provide assistance to scholars to secure or maintain employment with State VR agencies, where the job duties include provision of rehabilitation of individuals who are deaf or hard of hearing (e.g., assessment services, vocational and adjustment counseling services, provision of independent living skills training, interpreting services, interpreter referral services, advocacy services, and job placement services).

The academic training for all participants must meet (A) the DSU) personnel standards required under section 101(a)(7) of the Rehabilitation Act of 1973, as amended, and 34 CFR 361.18.

Rehabilitation topic area projects under this proposed priority must develop and use innovative approaches to train RSA scholars, including using cutting-edge technology or innovative application of advanced technology (e.g., hybrid learning or competency-based programs) to maximize participation in, and improve the effectiveness of, the academic training.

In addition to academic training, RSA funded projects may provide a one-time stipend, to an amount as specified in the Notice Inviting Applications published in the Federal Register to RSA scholars based on identified needs for—

(a) completing an internship (e.g., room and board, travel);

(b) obtaining qualifying employment in the specific field of study within a period of time after graduating and maintaining qualifying employment a minimum period of time beyond the required service obligation period as specified in the NIA; and

(c) utilizing a vetted employment expert or consultant to assist the RSA scholar in securing employment within a period of time after graduating with a State VR or related agency in the field of study as specified in the NIA.

Proposed Requirements

The Department proposes the following requirements for the RLTT program. We may apply one or more of these requirements in any year in which this program is in effect. We propose these requirements because we believe they would help applicants to develop well-designed, comprehensive projects. The proposed requirements would also provide the Department information critical to grants monitoring, such as an up-to-date picture of the employment needs in the applicant's geographic area.

Application Requirements: All applicants must—

(a) Provide data on the current and projected employment needs and personnel shortages in State VR agencies and other related agencies (as defined in 34 CFR 386.4) in their local area, region, and State; and describe how the proposed project will address those employment needs and personnel shortages;

(b) Describe how the project will train RSA scholars, as applicable, including how the project will provide them with an understanding of the evolving labor force and the needs of individuals with disabilities to ensure that the RSA scholars have a 21st century understanding of the evolving labor force and the needs of individuals with disabilities. Applicants must describe how, upon completion of the training program, State VR personnel including VR counselors or RSA scholars will be prepared to assist individuals with disabilities to meet current demands and emerging trends in the labor market, including how—

(1) The program provides a breadth of knowledge, experience, and rigor that will adequately prepare scholars to meet the employment needs and goals of VR consumers and aligns with evidence-based (as defined in 34 CFR 77.1) practices and with competency-based skills (e.g., advanced counseling skills, critical thinking skills, and skills in building collaborative relationships);

(2) The program prepares RSA scholars to meet all applicable certification standards;

(3) The program addresses new or emerging consumer employment needs or trends at the national, State, and regional levels;

(4) The program trains RSA scholars to possess the skills needed to address the specialized needs of individuals with specific types of disability conditions and backgrounds, which may include, but are not limited to, physical disabilities, mental health disorders or illnesses, intellectual and developmental disabilities, blindness, and deaf or hard of hearing, and individuals with disabilities who are from diverse cultural backgrounds or historically underserved populations;

(5) The program trains RSA scholars to understand the applications and strategies related to the integration of advanced assistive technology and artificial intelligence tools to fuel competitive integrated employment in the 21st century for individuals with disabilities, recognize the assistive technology needs of consumers and employers who hire individuals with disabilities, throughout the rehabilitation process so that they will be better able to coordinate the provision of appropriate advanced assistive technology services and devices including artificial intelligence in order to assist the consumers to obtain and retain competitive integrated employment;

(6) The program teaches RSA scholars to work effectively with employers, including by teaching strategies for developing relationships with employers in their State and local areas, identifying employer needs and skill demands, making initial employer contacts, presenting job-ready clients to potential employers, and conducting follow-up with employers;

(7) The program teaches RSA scholars to work effectively with state education agencies (SEAs), and local educational agencies (LEAs), particularly special education systems and educators. This includes instruction on collaborating effectively with SEAs, LEAs, school administrators, and special education teachers to ensure their awareness of pre-employment transition services and vocational rehabilitation transition services, and ensuring the successful planning and provision of these services; and

(8) The latest technology is incorporated into the methods of instruction (e.g., technology that supports the use of hybrid education to reach scholars who live far from the university and the use of technology to acquire labor market information);

(c) Describe their methods to—

(1) Recruit highly capable prospective State VR counselors or RSA scholars who have the potential to successfully complete the academic program, all required practicum and internship experiences, and the required service obligation;

(2) Educate potential RSA scholars about the terms and conditions of the service obligation under 34 CFR 386.4, 386.34, and 386.40 through 386.43 so that they will be fully informed before accepting a scholarship and aware of the consequences should they fail to complete the program;

(3) Maintain a system that ensures that RSA scholars sign a payback agreement when they start and an exit certification form when they exit the program, regardless of whether they drop out, are removed, or successfully complete the program;

(4) Provide academic support and counseling to RSA scholars throughout the course of the academic program to ensure successful completion;

(5) Ensure that all RSA scholars complete an internship in a State VR agency (as defined in 34 CFR 386.4) as a requirement for program completion, unless the Secretary determines upon grantee request that there is sufficient justification for not completing an internship;

(6) Provide career counseling, including informing RSA scholars of professional contacts and networks, job leads including those available through the RSA Payback Information Management System (PIMS), and other necessary resources and information to support RSA scholars in successfully obtaining and retaining qualifying employment;

(7) Maintain bi-monthly contact with RSA scholars upon successful academic training program completion and provide post-graduation support to assist RSA scholars to achieve qualifying employment as well as employment support, at a minimum, for the RSA scholars' initial three to six months of employment;

(8) Maintain quarterly communication with RSA scholars after program exit until the beginning of their service obligation date to ensure that scholar contact information in PIMS is up to date;

(9) Maintain and safeguard credentials to access PIMS for the timely review and approval of scholar employment; and

(10) Maintain accurate financial information on, while safeguarding the privacy of, current and former scholars from the time they are enrolled in the program until they successfully meet their service obligation;

(d) Describe a plan for developing and maintaining partnerships with State VR agencies, community-based rehabilitation service providers, and LEAs that includes—

(1) Coordination between the grantee and the State VR agencies and community-based rehabilitation service providers that will promote qualifying employment opportunities for RSA scholars and formalized on-boarding and induction experiences for new hires;

(2) Formal opportunities for RSA scholars to obtain work experiences through internships, practicum agreements, job shadowing, and mentoring opportunities;

(3) Formal opportunities for RSA scholars to obtain work experiences in LEAs to develop practical knowledge on effective special education teacher-VR counselor collaborations that foster increased awareness in LEAs of pre-employment transition services and vocational rehabilitation transition services, and the successful planning and provision of these services; and

(4) A scholar internship assessment tool that is developed to ensure a consistent approach to the evaluation of scholars in a particular program. Applicants must describe how—

(i) The tool will reflect the specific responsibilities of the scholar during the internship;

(ii) Grantees and worksite supervisors will work together to develop the assessment tool. Supervisors at the internship site will complete the assessment detailing the scholar's strengths and areas for improvement that must be addressed and provide the results of the assessment to the grantee; and

(iii) The grantee will ensure that (A) RSA scholars are provided with a copy of the assessment and all relevant rubrics prior to beginning their internship, (B) supervisors have sufficient technical support to accurately complete the assessment, and (C) scholars receive a copy of the results of the assessment within 90 days of the end of their internship;

(e) Describe how RSA scholars will be evaluated throughout the program to ensure that they are proficient in meeting the needs and demands of consumers and employers, including the steps that will be taken to provide assistance to an RSA scholar who is not meeting academic standards or who is performing poorly in a practicum or internship setting;

(f) Describe how the program will be evaluated, including how—

(1) The program will determine its effectiveness over time in filling vacancies in the State VR agency with qualified counselors or rehabilitation professionals capable of providing quality services to consumers;

(2) Input from State VR agencies and community-based rehabilitation service providers will be included in the evaluation;

(3) Feedback from consumers of VR services and employers (including the assessments described in paragraph (d)(4)) will be included in the evaluation;

(4) Data on the State VR program from other sources, such as the Department, will be included in the evaluation; and

(5) The data and results from the evaluation will be used to make necessary adjustments and improvements to the program.

Types of Priorities:

When inviting applications for a competition using one or more priorities, we designate the type of each priority as absolute, competitive preference, or invitational through a notice in the Federal Register. The effect of each type of priority follows:

Absolute priority: Under an absolute priority, we consider only applications that meet the priority (34 CFR 75.105(c)(3)).

Competitive preference priority: Under a competitive preference priority, we give competitive preference to an application by (1) awarding additional points, depending on the extent to which the application meets the priority (34 CFR 75.105(c)(2)(i)); or (2) selecting an application that meets the priority over an application of comparable merit that does not meet the priority (34 CFR 75.105(c)(2)(ii)).

Invitational priority: Under an invitational priority we are particularly interested in applications that meet the priority. However, we do not give an application that meets the priority a preference over other applications (34 CFR 75.105(c)(1)).

Final Priority and Requirements:

We will announce the final priorities and requirements in a document in the Federal Register. We will determine the final priorities and requirements after considering public comments on the proposed priorities and requirements and other information available to the Department. This document does not preclude us from proposing additional priorities, requirements, definitions, and selection criteria subject to meeting applicable rulemaking requirements.

Note: This document does not solicit applications. In any year in which we choose to use these proposed priorities and requirements, we invite applications through a notice in the Federal Register.

Executive Orders 12866, 13563, and 14094

Regulatory Impact Analysis

Under Executive Order 12866, the Office of Management and Budget (OMB) determines whether this regulatory action is “significant” and, therefore, subject to the requirements of the Executive order and subject to review by OMB. Section 3(f) of Executive Order 12866, as amended by Executive Order 14094, defines a “significant regulatory action” as an action likely to result in a rule that may—

(1) Have an annual effect on the economy of $200 million or more (adjusted every three years by the Administrator of Office of Information and Regulatory Affairs (OIRA) for changes in gross domestic product); or adversely affect in a material way the economy, a sector of the economy, productivity, competition, jobs, the environment, public health or safety, or State, local, territorial, or Tribal governments or communities;

(2) Create a serious inconsistency or otherwise interfere with an action taken or planned by another agency;

(3) Materially alter the budgetary impacts of entitlements, grants, user fees, or loan programs or the rights and obligations of recipients thereof; or

(4) Raise legal or policy issues for which centralized review would meaningfully further the President's priorities, or the principles set forth in this Executive order, as specifically authorized in a timely manner by the Administrator of OIRA in each case.

This proposed regulatory action is not a significant regulatory action subject to review by OMB under section 3(f) of Executive Order 12866, as amended by Executive Order 14094.

We have also reviewed this proposed regulatory action under Executive Order 13563, which supplements and explicitly reaffirms the principles, structures, and definitions governing regulatory review established in Executive Order 12866, as amended by Executive Order 14094. To the extent permitted by law, Executive Order 13563 requires that an agency—

(1) Propose or adopt regulations only upon a reasoned determination that their benefits justify their costs (recognizing that some benefits and costs are difficult to quantify);

(2) Tailor its regulations to impose the least burden on society, consistent with obtaining regulatory objectives and taking into account—among other things and to the extent practicable—the costs of cumulative regulations;

(3) In choosing among alternative regulatory approaches, select those approaches that maximize net benefits (including potential economic, environmental, public health and safety, and other advantages; distributive impacts; and equity);

(4) To the extent feasible, specify performance objectives, rather than the behavior or manner of compliance a regulated entity must adopt; and

(5) Identify and assess available alternatives to direct regulation, including economic incentives—such as user fees or marketable permits—to encourage the desired behavior, or provide information that enables the public to make choices.

Executive Order 13563 also requires an agency “to use the best available techniques to quantify anticipated present and future benefits and costs as accurately as possible.” OIRA has emphasized that these techniques may include “identifying changing future compliance costs that might result from technological innovation or anticipated behavioral changes.”

We are issuing these proposed priorities and requirements only on a reasoned determination that their benefits would justify their costs. In choosing among alternative regulatory approaches, we selected those approaches that would maximize net benefits. Based on the analysis that follows, the Department believes that this regulatory action is consistent with the principles in Executive Order 13563.

We also have determined that this regulatory action would not unduly interfere with State, local, and Tribal governments in the exercise of their governmental functions.

In accordance with these Executive orders, the Department has assessed the potential costs and benefits, both quantitative and qualitative, of this regulatory action. The potential costs are those resulting from statutory requirements and those we have determined as necessary for administering the Department's programs and activities.

Clarity of the Regulations

Executive Order 12866 and the Presidential memorandum “Plain Language in Government Writing” require each agency to write regulations that are easy to understand.

The Secretary invites comments on how to make the proposed priorities and requirements easier to understand, including answers to questions such as the following:

• Are the requirements in the proposed priorities and requirements clearly stated?

• Do the proposed priorities and requirements contain technical terms or other wording that interferes with their clarity?

• Does the format of the proposed priorities and requirements (grouping and order of sections, use of headings, paragraphing, etc.) aid or reduce their clarity?

• Would the proposed priorities and requirements be easier to understand if we divided them into more (but shorter) sections?

• Could the description of the proposed priorities and requirements in the SUPPLEMENTARY INFORMATION section of this preamble be more helpful in making the proposed priority and requirements easier to understand? If so, how?

• What else could we do to make the proposed priorities and requirements easier to understand?

To send any comments about how the Department could make the proposed priorities and requirements easier to understand, see the instructions in the ADDRESSES section.

Intergovernmental Review

These programs are subject to Executive Order 12372 and the regulations in 34 CFR part 79. One of the objectives of the Executive order is to foster an intergovernmental partnership and a strengthened federalism. The Executive order relies on processes developed by State and local governments for coordination and review of proposed Federal financial assistance.

This document provides early notification of our specific plans and actions for this program.

Regulatory Flexibility Act Certification

The Secretary certifies that the proposed priorities and requirements would not have a significant economic impact on a substantial number of small entities. The small entities that this proposed regulatory action would affect are IHEs, Indian tribes, and public or private nonprofit organizations. The Secretary believes that the costs imposed on applicants by the proposed priorities and requirements would be limited to paperwork burden related to preparing an application and that the benefits would outweigh any costs incurred by applicants.

Participation in this program is voluntary. For this reason, the proposed priorities and requirements would impose no burden on small entities unless they applied for funding under the program. We expect that in determining whether to apply for RLTT funds, an eligible applicant would evaluate the requirements of preparing an application and any associated costs and weigh them against the benefits likely to be achieved by receiving a RLTT grant. Eligible applicants most likely would apply only if they determine that the likely benefits exceed the costs of preparing an application. The likely benefits include the potential receipt of a grant as well as other benefits that may accrue to an entity through its development of an application, such as the use of that application to seek funding from other sources to train State VR counselors or RSA scholars in their pursuit to successfully graduate with an undergraduate or master's level degree, or certificate of completion and then secure or maintain employment at the State VR agency, filling critical VR positions where there are shortages or a need.

This proposed regulatory action would not have a significant economic impact on a small entity once it receives a grant because it would be able to meet the costs of compliance using the funds provided under this program. We invite comments from eligible small entities as to whether they believe this proposed regulatory action would have a significant economic impact on them and, if so, request evidence to support that belief.

Paperwork Reduction Act of 1995

The proposed priorities and requirements do not contain any information collection requirements.

Accessible Format: On request to the program contact person listed under FOR FURTHER INFORMATION CONTACT, individuals with disabilities can obtain this document in an accessible format. The Department will provide the requestor with an accessible format that may include Rich Text Format (RTF) or text format (txt), a thumb drive, an MP3 file, braille, large print, audiotape, compact disc, or other accessible format.

Electronic Access to This Document: The official version of this document is the document published in the Federal Register. You may access the official edition of the Federal Register and the Code of Federal Regulations at www.govinfo.gov. At this site you can view this document, as well as all other Department documents published in the Federal Register, in text or Portable Document Format (PDF). To use PDF you must have Adobe Acrobat Reader, which is available free at the site.

You may also access Department documents published in the Federal Register by using the article search feature at www.federalregister.gov. Specifically, through the advanced search feature at this site, you can limit your search to documents published by the Department.

Glenna Wright-Gallo,
Assistant Secretary for Special Education and Rehabilitative Services.

[FR Doc. 2025-00268 Filed 1-17-25; 8:45 am]

BILLING CODE 4000-01-P